DEPARTMENT OF ENERGY

Federal Energy Regulatory Commission

[Docket No. RP00-332-000]

ANR Pipeline Company; Notice of Technical Conference

November 21, 2000.

On June 15, 2000, ANR Pipeline Company (ANR) filed in compliance with Order No. 637. A technical conference to discuss the various issues raised by ANR's filing was held on September 20, 2000, October 4, 2000, and November 15, 2000.

Take notice that an additional session of the technical conference will be held Thursday, January 11, 2001, beginning at 11:00 am in a room to be designated at the offices of the Federal Energy Regulatory Commission, 888 First Street, NE., Washington, DC 20426.

All interested persons and Staff are permitted to attend.

David P. Boergers,
Secretary

[FR Doc. 00-30204 Filed 11-27-00; 8:45 am]

BILLING CODE 6717-01—M